DEPARTMENT OF THE INTERIOR

Fish and Wildlife Service

[FWS-R4-R-2008-N0016; 40136-1265-0000-S3]

Felsenthal National Wildlife Refuge, Ashley, Bradley, and Union Counties, AR; Overflow National Wildlife Refuge, Ashley County, AR

AGENCY: Fish and Wildlife Service, Interior.

ACTION: Notice of intent to prepare a comprehensive conservation plan and environmental assessment; request for comments.

SUMMARY: We, the U.S. Fish and Wildlife Service (Service), intend to prepare a comprehensive conservation plan (CCP) and associated National Environmental Policy Act (NEPA) documents for Felsenthal and Overflow National Wildlife Refuges. We provide this notice in compliance with our CCP policy to advise other agencies, Tribes, and the public of our intentions, and to obtain suggestions and information on the scope of issues to consider in the planning process.

DATES: To ensure consideration, we must receive your written comments by May 19, 2008. We will announce opportunities for public input in local news media throughout the CCP planning process.

ADDRESSES: Send your comments or requests for more information to: Mike Dawson, Refuge Planner, Fish and Wildlife Service, 6578 Dogwood View Parkway, Suite B, Jackson, Mississippi 39213; Fax: 601/965-4010; Electronic mail: mike_dawson@fws.gov.

FOR FURTHER INFORMATION CONTACT: Mike Dawson; Telephone: 601/965-4903, extension 20.

SUPPLEMENTARY INFORMATION:

Introduction

With this notice, we initiate our process for developing a CCP for Felsenthal National Wildlife Refuge in Ashley, Bradley, and Union Counties, AR, and Overflow National Wildlife Refuge in Ashley County, AR. We provide this notice in compliance with our planning policy to (1) advise other Federal and State agencies and the public of our intention to conduct detailed planning on the refuge, and (2) obtain suggestions and information on the scope of topics to consider in the environmental document and during development of the CCP.

Background

The National Wildlife Refuge System Improvement Act of 1997 (16 U.S.C. 668dd-668ee), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act and NEPA.

We establish each unit of the National Wildlife Refuge System for specific purposes. We use these purposes as the bases to develop and prioritize management goals and objectives for the refuge within the National Wildlife Refuge System mission, and to determine how the public can use the refuge. The planning process is a way for us and the public to evaluate management goals and objectives for the best possible conservation approach to this important wildlife habitat, while providing for wildlife-dependent recreation opportunities that are compatible with the refuge's establishing purposes and the mission of the National Wildlife Refuge System.

Our CCP process provides opportunities for Tribal, State, and local governments; agencies; organizations; and the public to participate. At this time we encourage the public to provide input in the form of issues, concerns, ideas, and suggestions for the future management of Felsenthal and Overflow National Wildlife Refuges.

We will conduct the environmental review of this project in accordance with the requirements of the National Environmental Policy Act of 1969, as amended (NEPA) (42 U.S.C. 4321 et seq.); NEPA regulations (40 CFR parts 1500-1508); other appropriate Federal laws and regulations; and our policies and procedures for compliance with those laws and regulations.

Felsenthal National Wildlife Refuge was established in 1975, as a result of the Corps of Engineers' Ouachita and Black Rivers Navigation Project. Geographically, the 65,000-acre refuge is located in what is known as the Felsenthal Basin, an extensive natural depression that is laced with a vast complex of sloughs, bayous, and lakes. The region's two major rivers, the Saline and Ouachita, flow through the refuge. Historically, periodic flooding of the “bottoms” during winter and spring provided excellent wintering waterfowl habitat. These wetland areas in combination with the refuge's diverse forest ecosystem of bottomland hardwoods, pine forests, and uplands support a wide variety of wildlife and provide excellent opportunities for fishing, hunting, boating, wildlife observation, and environmental education.

Overflow National Wildlife Refuge was established in 1980, to protect one of the remaining bottomland hardwood forests considered vital for maintaining mallard, wood duck, and other waterfowl populations in the Mississippi Flyway. This 13,000-acre plus refuge is a wetland complex within the watershed of Overflow Creek, which flows southerly along the length of the refuge. The majority of the refuge is bottomland hardwood forests, consisting primarily of willow and overcup oaks. Willow oaks, found here in abundance, produce small acorns that are an excellent source of food for the mallards and wood ducks that make the refuge their winter home.

Authority: This notice is published under the authority of the National Wildlife Refuge System Improvement Act of 1997, Public Law 105-57.

Dated: December 31, 2007.
Jon Andrew,
Acting Regional Director.

[FR Doc. E8-6797 Filed 4-1-08; 8:45 am]

BILLING CODE 4310-55-P